OFFICE OF PERSONNEL MANAGEMENT

Excepted Service

AGENCY: Office of Personnel Management.

ACTION: Notice.

SUMMARY: This notice identifies Schedule A, B, and C appointing authorities applicable to a single agency that were established or revoked from September 1, 2018 to September 30, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during September 2018.

Schedule B

No Schedule B Authorities to report during September 2018.

Schedule C

The following Schedule C appointing authorities were approved during September 2018.

Agency name | Organization name | Position title | Authorization No. | Effective date
DEPARTMENT OF AGRICULTURE | Farm Service Agency | State Executive Director (2) | DA180230 DA180239 | 09/20/2018 09/20/2018
| Office of Communications | Press Secretary | DA180233 | 09/12/2018
| Office of the Assistant Secretary for Congressional Relations | Chief of Staff Policy Advisor | DA180229 DA180243 | 09/13/2018 09/20/2018
| Office of the Secretary | Director of Scheduling | DA180244 | 09/14/2018
|  | Advance Lead | DA180232 | 09/17/2018
|  | Senior Advisor | DA180222 | 09/20/2018
| Office of Rural Business Service | Confidential Assistant | DA180251 | 09/26/2018
DEPARTMENT OF COMMERCE | Office of International Trade Administration | Senior Advisor (2) | DC180191 DC180201 | 09/14/2018 09/26/2018
|  | Special Assistant | DC180189 | 09/26/2018
| Office of Executive Secretariat | Associate Director, Office of Executive Secretariat | DC180197 | 09/11/2018
| Office of Scheduling and Advance | Director of Scheduling, Advance, and Protocol | DC180202 | 09/12/2018
|  | Deputy Director of Advance | DC180174 | 09/17/2018
CONSUMER PRODUCT SAFETY COMMISSION | Office of Commissioners | Special Assistant | PS180009 | 09/11/2018
DEPARTMENT OF DEFENSE | Washington Headquarters Services | Defense Fellow | DD180125 | 09/12/2018
DEPARTMENT OF EDUCATION | Office of Career Technical and Adult Education | Confidential Assistant | DB180064 | 09/20/2018
| Office of Postsecondary Education | Special Assistant | DB180061 | 09/27/2018
| Office of the General Counsel | Attorney Advisor | DB180066 | 09/20/2018
| Office of the Under Secretary | Confidential Assistant | DB180069 | 09/20/2018
DEPARTMENT OF ENERGY | Office of the Assistant Secretary for Fossil Energy | Senior Advisor for Regional Economic Development | DE180098 | 09/12/2018
ENVIRONMENTAL PROTECTION AGENCY | Region VI—Dallas, Texas Office of the Assistant Administrator for Air and Radiation | Chief of Staff Policy Advisor for Office of Air and Radiation | EP180093 EP180095 | 09/20/2018 09/20/2018
EXPORT-IMPORT BANK | Office of the Chief of Staff | Executive Secretary | EB180009 | 09/12/2018
DEPARTMENT OF HEALTH AND HUMAN SERVICES | Office of Global Affairs Office of Intergovernmental and External Affairs | Advisor Senior Advisor | DH180239 DH180242 | 09/20/2018 09/07/2018
| Office of the Assistant Secretary for Public Affairs | Communications Assistant Special Assistant | DH180235 DH180250 | 09/13/2018 09/26/2018
| Office of the Secretary | Senior Advisor | DH180228 | 09/13/2018
DEPARTMENT OF HOMELAND SECURITY | Office of Countering Weapons of Mass Destruction | Special Assistant | DM180284 | 09/06/2018
| Office of Partnership and Engagement | Engagement Manger Associate Director, Office of Partnership and Engagement | DM180293 DM180295 | 09/26/2018 09/26/2018
| Office of the Assistant Secretary for Public Affairs | Director of Strategic Communications | DM180296 | 09/18/2018
| Office of the Chief of Staff | Confidential Assistant (2) | DM180277 DM180307 | 09/05/2018 09/27/2018
| Office of the Executive Secretariat | Advisor | DM180292 | 09/18/2018
| Office of the Secretary | Confidential Assistant | DM180286 | 09/06/2018
|  | Special Assistant | DM180291 | 09/20/2018
DEPARTMENT OF HOUSING AND URBAN DEVELOPMENT | Office of the Administration Office of Public and Indian Housing | Special Assistant Policy Advisor | DU180106 DU180107 | 09/20/2018 09/20/2018
DEPARTMENT OF THE INTERIOR | Office of Congressional and Legislative Affairs | Senior Advisor | DI180105 | 09/26/2018
| Secretary's Immediate Office | Special Assistant | DI180104 | 09/26/2018
|  | Advance Representative | DI180106 | 09/26/2018
| Office of United States Fish and Wildlife Service | Advisor | DI180080 | 09/20/2018
DEPARTMENT OF JUSTICE | Office of Public Affairs | Media Affairs Coordinator | DJ180135 | 09/14/2018
|  | Media Affairs Specialist | DJ180134 | 09/17/2018
|  | Press Assistant | DJ180128 | 09/20/2018
NATIONAL AERONAUTICS AND SPACE ADMINISTRATION | Office of Legislative and Intergovernmental Affairs | Supervisory Legislative Affairs Specialist | NN180031 | 09/12/2018
NATIONAL LABOR RELATIONS BOARD | Office of the Board Members | Public Affairs Officer (Director Congressional and Public Affairs Officer) | NL180010 | 09/05/2018
NATIONAL TRANSPORTATION SAFETY BOARD | Office of Board Members | Confidential Assistant Special Assistant | TB180003 TB180004 | 09/10/2018 09/10/2018
OFFICE OF MANAGEMENT AND BUDGET | Office of General Government Programs | Confidential Assistant | BO180038 | 09/13/2018
OFFICE OF PERSONNEL MANAGEMENT | Office of Communications | Speech Writer | PM180060 | 09/26/2018
SMALL BUSINESS ADMINISTRATION | Office of the Administrator | White House Liaison | SB180038 | 09/26/2018
DEPARTMENT OF STATE | Office of the Secretary | Staff Assistant | DS180086 | 09/21/2018
|  | Writer-Editor (Chief Speechwriter) | DS180087 | 09/26/2018
| Office of the Under Secretary for Arms Control and International Security Affairs | Special Assistant | DS180085 | 09/26/2018
| Office of the Chief of Protocol | Senior Protocol Officer | DS180088 | 09/26/2018
|  | Protocol Officer (Gifts) | DS180090 | 09/27/2018
DEPARTMENT OF TRANSPORTATION | Office of the Assistant Secretary for Governmental Affairs | Senior Governmental Affairs Officer | DT180083 | 09/27/2018
|  | Governmental Affairs Officer | DT180089 | 09/27/2018
DEPARTMENT OF THE TREASURY | Secretary of the Treasury | Assistant Director of Scheduling and Advance | DY180117 | 09/06/2018
|  | Special Assistant (3) | DY180118 | 09/13/2018
|  |  | DY180123 | 09/21/2018
|  |  | DY180122 | 09/28/2018
|  | White House Liaison | DY180121 | 09/21/2018
| Office of the Under Secretary for International Affairs | Special Advisor | DY180126 | 09/27/2018
DEPARTMENT OF VETERANS AFFAIRS | Office of the Assistant Secretary for Public and Intergovernmental Affairs | Special Assistant/Deputy Press Secretary | DV180065 | 09/20/2018
| Office of the Board of Veterans' Appeals | Attorney Adviser (Attorney Advisor) | DV180070 | 09/26/2018

The following Schedule C appointing authorities were revoked during September 2018.

Agency name | Organization name | Position title | Request No. | Date vacated
DEPARTMENT OF AGRICULTURE | Farm Service Agency | State Executive Director—Oregon | DA180059 | 09/01/2018
|  | State Executive Director—Idaho | DA180044 | 09/08/2018
DEPARTMENT OF COMMERCE | Office of the Assistant Secretary Legislative and Intergovernmental Affairs | Legislative Affairs Specialist | DC170133 | 09/01/2018
| Office of Business Liaison | Special Assistant | DC170107 | 09/01/2018
| Office of Executive Secretariat | Associate Director, Office of Executive Secretariat | DC180108 | 09/01/2018
| Office of Policy and Strategic Planning | Senior Policy Advisor | DC170108 | 09/01/2018
| Office of the Deputy Assistant Secretary | Senior Advisor and Director of Strategic Initiatives | DC180148 | 09/01/2018
| Office of Director General of the United States and Foreign Commercial Service and Assistant Secretary for Global Markets | Confidential Assistant | DC170138 | 09/29/2018
OFFICE OF THE SECRETARY OF DEFENSE | Office of the Under Secretary of Defense (Personnel and Readiness) | Director of Communications to the Under Secretary of Defense for Personnel and Readiness | DD180080 | 09/01/2018
|  | Special Assistant to the Under Secretary of Defense (Personnel and Readiness) | DD170223 | 09/07/2018
| Washington Headquarters Services | Defense Fellow | DD180008 | 09/15/2018
DEPARTMENT OF EDUCATION | Office of Legislation and Congressional Affairs | Confidential Assistant | DB170117 | 09/01/2018
DEPARTMENT OF HEALTH AND HUMAN SERVICES | Office of the Assistant Secretary for Health | Director of Communications | DH170282 | 09/01/2018
| Office of the Assistant Secretary for Legislation | Senior Advisor | DH180084 | 09/15/2018
| Office of the Assistant Secretary for Public Affairs | Director of Communications | DH180072 | 09/29/2018
| Office of the Secretary | Senior Advance Representative | DH180150 | 09/15/2018
|  | Advisor | DH180104 | 09/29/2018
DEPARTMENT OF HOMELAND SECURITY | Office of United States Immigration and Customs Enforcement | Director of Communications | DM170144 | 09/05/2018
| Office of the Assistant Secretary for Public Affairs | Press Assistant | DM180124 | 09/12/2018
DEPARTMENT OF HOUSING AND URBAN DEVELOPMENT | Office of the Administration Office of the Secretary | Director of Scheduling Special Assistant | DU170116 DU170149 | 09/15/2018 09/29/2018
DEPARTMENT OF JUSTICE | Civil Division | Counsel | DJ180052 | 09/01/2018
| Office of Justice Programs | Confidential Assistant | DJ180019 | 09/29/2018
| Office of Legislative Affairs | General Attorney | DJ180058 | 09/01/2018
|  | Confidential Assistant | DJ170074 | 09/29/2018
| Office of Public Affairs | Deputy Speechwriter and Media Affairs Specialist | DJ180110 | 09/12/2018
|  | Press Assistant | DJ170107 | 09/15/2018
| Office of the Attorney General | Special Assistant | DJ180100 | 09/07/2018
DEPARTMENT OF LABOR | Office of the Assistant Secretary for Policy | Policy Advisor | DL170082 | 09/01/2018
DEPARTMENT OF THE INTERIOR | Office of the Assistant Secretary—Land and Minerals Management | Advisor | DI170105 | 09/03/2018
DEPARTMENT OF THE TREASURY | Department of the Treasury | Special Assistant to the Executive Secretary | DY170074 | 09/01/2018
|  | Special Assistant | DY170119 | 09/10/2018
|  | Advance Representative | DY170142 | 09/16/2018
DEPARTMENT OF TRANSPORTATION | Office of Public Affairs | Speechwriter | DT170044 | 09/01/2018
ENVIRONMENTAL PROTECTION AGENCY | Office of the Assistant Administrator for Land and Emergency Management | Senior Counsel to the Assistant Administrator for Land and Emergency Management | EP180021 | 09/29/2018
EXPORT-IMPORT BANK | Office of the Chairman | Financial Advisor | EB170015 | 09/01/2018

Authority: 5 U.S.C. 3301 and 3302; E.O. 10577, 3 CFR, 1954-1958 Comp., p. 218.

Office of Personnel Management.
Alexys Stanley,
Regulatory Affairs Analyst.

[FR Doc. 2019-04551 Filed 3-12-19; 8:45 am]

BILLING CODE 6325-39-P